DEPARTMENT OF LABOR

Bureau of Labor Statistics

International Labor Comparisons

ACTION: Notice.

SUMMARY: The International Labor Comparisons (ILC) program adjusted foreign data to a common framework of concepts, definitions, and classifications to facilitate data comparisons between the United States and other countries. ILC data were used to assess United States economic performance relative to other countries, as well as to evaluate the competitive position of the United States in international markets.

On March 1, 2013, President Obama ordered into effect the across-the-board spending cuts (commonly referred to as sequestration) required by the Balanced Budget and Emergency Deficit Control Act, as amended. In order to achieve these budget cuts and protect core programs, The Bureau of Labor Statistics is eliminating the International Labor Comparisons program. Subject to BLS policies and procedures, the underlying data and the methodology used to produce the data will be available upon request.

ADDRESSES: Send inquiries to John Ruser, Office of Productivity and Technology, Bureau of Labor Statistics, Room 2120, 2 Massachusetts Avenue NE., Washington, DC 20212 or by email to: ruser.john@bls.gov.

FOR FURTHER INFORMATION CONTACT: John Ruser, Office of Productivity and Technology, Bureau of Labor Statistics, telephone number 202-691-6304 (this is not a toll free number), or by email at ruser.john@bls.gov.

Signed at Washington, DC, this 19th day of June 2013.
Eric Molina,
Acting Chief, Division of Management Systems, Bureau of Labor Statistics.

[FR Doc. 2013-15119 Filed 6-24-13; 8:45 am]

BILLING CODE 4510-24-P